Title 3—

The President

Proclamation 7577 of July 17, 2002

Captive Nations Week, 2002

By the President of the United States of America

A Proclamation

The United States is proud to stand on the side of brave people everywhere who seek the same freedoms upon which our Nation was founded. Each year, during Captive Nations Week, we reaffirm our determination to work for freedom around the globe. Created against the backdrop of the Cold War, the importance and power of Captive Nations Week continues to resonate in today's world.

In too many corners of the earth, freedom and independence are the victims of dictators driven by hatred, fear, designs of ethnic superiority, religious intolerance, and xenophobia. These despots deny their citizens the liberty and justice that is the birthright of all people. Some governments, such as those in North Korea, Iraq, and Iran, starve their people, take away their voices, traffic in terror, and threaten the world with weapons of mass destruction. In many other places, from Burma to Belarus, Cuba and Zimbabwe, people are denied the most basic rights to speak in freedom, and their daily lives are haunted by the fear of the secret police.

This week, America reaffirms our solidarity with and support for people living under conditions of servitude. They are the nonnegotiable demands of human dignity. History teaches us that when people are given a choice between freedom and tyranny, freedom will win. Recently, the world saw this in Afghanistan, where people took to the streets to celebrate the fall of their Taliban oppressors. Those in other lands seeking to unshackle themselves from dictatorship will also have America's support.

Twenty years ago, President Ronald Reagan said before the British Parliament at Westminster that “our mission today (is) to preserve freedom as well as peace. It may not be easy to see; but I believe we live now at a turning point.” These words were a prelude to the fall of the Berlin Wall in 1989. Today, as the events of September 11 made clear, we are at another turning point, where the world faces the prospect of dictators supplying the world's most dangerous weapons to their terrorist allies. These terrorists aspire to impose their brutal will on freedom loving people everywhere.

One of our greatest strengths in this struggle against a world of fear, chaos, and captivity is our commitment to standing alongside people everywhere determined to build a world of freedom, dignity, and tolerance. This week America affirms its commitment to helping those in captive nations achieve democracy.

The Congress, by Joint Resolution approved July 17, 1959, (73 Stat. 212), has authorized and requested the President to issue a proclamation designating the third week in July of each year as “Captive Nations Week.”

NOW, THEREFORE, I, GEORGE W. BUSH, President of the United States of America, by virtue of the authority vested in me by the Constitution and laws of the United States, do hereby proclaim July 21 through 27, 2002, as Captive Nations Week. I call upon the people of the United States to observe this week with appropriate ceremonies and activities and to reaffirm their devotion to the aspirations of all peoples for liberty, justice, and self-determination.

IN WITNESS WHEREOF, I have hereunto set my hand this seventeenth day of July, in the year of our Lord two thousand two, and of the Independence of the United States of America the two hundred and twenty-seventh.

B

[FR Doc. 02-18556

Filed 7-18-02; 11:23 am]

Billing code 3195-01-P